DEPARTMENT OF HOMELAND SECURITY

Federal Emergency Management Agency

[Docket ID FEMA-2017-0022; OMB No. 1660-0004]

Agency Information Collection Activities: Submission for OMB Review; Comment Request; Application for Participation in the National Flood Insurance Program (NFIP)

AGENCY: Federal Emergency Management Agency, DHS.

ACTION: Notice and request for comments.

SUMMARY: The Federal Emergency Management Agency, as part of its continuing effort to reduce paperwork and respondent burden, invites the general public and other Federal agencies to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 13, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Adrienne L. Sheldon, Supervisory Emergency Management Specialist, Floodplain Management Division, (202) 212-3966.

SUPPLEMENTARY INFORMATION: The National Flood Insurance Program (NFIP), codified at 42 U.S.C 4001, et seq., requires all flood prone communities throughout the country to apply for participation in the NFIP one year after their flood prone status is identified or submit to the prohibition of certain types of federal and federally-related financial assistance for use in their floodplains. Title 44 Code of Federal Regulations (CFR) section 59.2 authorizes previously unavailable flood insurance protection to property owners in flood-prone areas, and 44 CFR 59.22 identifies the information that communities are required to submit to FEMA for application into the NFIP. 44 CFR 59.22 and 59.24 identify the information a community is required to submit to FEMA for continued participation in the program.

This proposed information collection previously published in the Federal Register on December 13, 2017 at 82 FR 58631 with a 60 day public comment period. No comments were received. This information collection expired on September 30, 2017. FEMA is requesting a reinstatement, without change, of a previously approved information collection for which approval has expired. The purpose of this notice is to notify the public that FEMA will submit the information collection abstracted below to the Office of Management and Budget for review and clearance.

Collection of Information

Title: Application for Participation in the National Flood Insurance Program (NFIP).

Type of information collection: Reinstatement, without change, of a previously approved collection for which approval has expired.

OMB Number: 1660-0004.

Form Titles and Numbers: FEMA Form 086-0-30, Application for Participation in the National Flood Insurance Program.

Abstract: The National Flood Insurance Program (NFIP) provides flood insurance to the communities that apply for participation and make a commitment to protect against future flood damages. The application form and supporting documentation will enable FEMA to continue to rapidly process new community applications and to thereby more quickly provide flood insurance protection to the residents in communities.

To qualify for the NFIP, a participating community must adopt certain minimum standards in accordance with FEMA's regulations at 44 CFR 60.3, 60.4, and 60.5. In order to verify whether communities maintain such standards, the NFIP requires participating communities to retain documentation on development taking place in the flood hazard areas within the community. 44 CFR 59.22. Such information will be made available to FEMA upon request. This information assists FEMA in evaluating the effectiveness of a community's floodplain management program and participating property owners' eligibility for flood insurance.

This reinstatement does not propose any change in the information solicited from respondents through this information collection; however, the number of burden hours has been updated to reflect changing number of respondents and responses received through this collection over time. These changes have occurred naturally, and do not result from specific action taken by FEMA.

The “Application for Participation in the NFIP” and the “NFIP and the Community Development Permit Process” are separate actions documented under the same collection.

Affected Public: State, local or Tribal government.

Estimated Number of Respondents: 22,367.

Estimated Number of Responses: 97,724.

Estimated Total Annual Burden Hours: 244,418.

Estimated Total Annual Respondent Cost: $20,946,623.

Estimated Respondents' Operation and Maintenance Costs: N/A.

Estimated Respondents' Capital and Start-Up Costs: N/A.

Estimated Total Annual Cost to the Federal Government: $ 83,041.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 7, 2018.
William H. Holzerland,
Senior Director for Information Management, Office of the Chief Administrative Officer, Mission Support, Federal Emergency Management Agency, Department of Homeland Security.

[FR Doc. 2018-05178 Filed 3-13-18; 8:45 am]

BILLING CODE 9110-12-P